DEPARTMENT OF THE INTERIOR

Fish and Wildlife Service

[FWS-R3-ES-2010-N004; 30120-1122-0000-F2]

Wisconsin Statewide Habitat Conservation Plan for Karner Blue Butterfly

AGENCY: Fish and Wildlife Service, Interior.

ACTION: Notice of availability: draft environmental assessment and updated habitat conservation plan in support of an application to renew/amend incidental take permit number TE010064-5.

SUMMARY: We, the U.S. Fish and Wildlife Service (Service), have received an application from the State of Wisconsin, Department of Natural Resources (Applicant), for renewal of an incidental take permit (ITP) under the Endangered Species Act of 1973 (Act). If approved, the permit would be for a 10-year period and would authorize incidental take of the endangered Karner blue butterfly (Lycaeides melissa samuelis) throughout the State of Wisconsin. We request public comment on the application and associated documents.

DATES: To ensure consideration, please send your written comments on or before May 4, 2010.

ADDRESSES: Send written comments via U.S. mail to the Regional Director, Attn: Lisa Mandell, U.S. Fish and Wildlife Service, Ecological Services, 1 Federal Drive, Fort Snelling, MN 55111-4056, or by electronic mail to permitsR3ES@fws.gov.

FOR FURTHER INFORMATION CONTACT: Lisa Mandell, (612) 713-5164.

SUPPLEMENTARY INFORMATION:

Background

Under the National Environmental Policy Act (NEPA; 42 U.S.C. 4371 et seq.), we announce that we have gathered the information necessary to: (1) Determine the impacts and formulate alternatives for an environmental assessment related to renewal of an incidental take permit for the Applicant; and (2) approve the habitat conservation plan (HCP), which provides measures to minimize and mitigate the effects of the proposed incidental take of the Federally listed Karner blue butterfly to the maximum extent practicable, under section 10(a)(1)(B) of the Act (16 U.S.C. 1531 et seq.).

If we renew the permit, we would authorize take for 10 years in conjunction with implementation of the updated HCP which the applicant has prepared. The applicant has been operating under Fish and Wildlife Permit TE010064 for a period of 10 years (1999-2009), and the incidental take would continue throughout the State of Wisconsin, if we renew the permit. Incidental take occurs as a result of impacts of otherwise lawful land use and land management actions. These activities have been altered under the HCP to minimize and mitigate the effects of incidental take of Karner blue butterflies and the habitats upon which they depend. We have issued an environmental assessment to evaluate the impacts of the alternatives for renewal of the incidental take permit, including the no action alternative.

In the 1990s, the State of Wisconsin initiated a unique partnership with a variety of land managers in Wisconsin to develop a statewide HCP for the Karner blue butterfly. For a period of approximately 5 years, partners gathered regularly and worked with the Service on an innovative plan to incorporate considerations for the Karner blue butterfly into land-use activities. Partners include the forest industry, utility companies, road management authorities, The Nature Conservancy, and private landowners. The effort culminated in September 1999 with the signing of an Implementing Agreement and issuance of an ITP. The DNR serves as the permit holder and administers the implementation of the Statewide plan. At the outset, 26 partners were part of the HCP. In the first 10 years of implementation, the list of partners has grown to 39 major land-management entities.

In addition to the partners in this effort, the DNR proposed and implemented a unique approach to include small landowners in the conservation effort on a voluntary basis. This voluntary strategy has proved to be successful in garnering additional conservation and protection of butterfly habitat, without the “fear” sometimes associated with government regulation.

Management protocols have been refined, populations of butterflies have increased and others discovered, and a number of improvements resulted from what has been learned through adaptive management. This HCP has been lauded as an innovative and successful approach to endangered species conservation.

The Karner blue butterfly depends on ecological disturbance, which maintains the early successional habitat in which its specific host plant survives. Proper management, with specific strategies to conserve the butterfly, results in increases of habitat and in the population. In the case of this species, cessation of habitat management and an absence of natural wildfire regimes would lead to habitat that would not support survival of the species into the future. Since the butterfly thrives in concert with habitat manipulation and management, it has been an ideal species for a conservation plan.

The HCP has been updated to consolidate the conservation measures found in the original HCP and to allow for easy access by partners implementing the plan. In addition, the DNR has developed an implementation handbook, called the HCP User's Guide, which is available online. It includes management protocols for a wide range of covered activities, such as habitat restoration, timber harvest, mowing, and burning. To understand the breadth of management activities that are incorporated into the HCP, please visit the DNR's Web site at http://www.dnr.state.wi.us/forestry/karner/hcp-userguide.htm.

The updated draft HCP includes an improved conservation program, a focused effort on recovery properties to enhance long-term survival and recovery of the butterfly, biological modeling to predict butterfly occurrence and flights, and improvements concerning compliance monitoring and reporting.

Purpose and Need for Action

The purpose for which we have prepared an Environmental Assessment is to respond to the applicant's request for an ITP renewal for the Karner blue butterfly. This involves the continuation of activities that have the potential to result in incidental take of the butterfly through implementation of the Wisconsin Statewide HCP. The applicant's updated HCP balances the long-term survival and recovery of the species with resource management in Wisconsin, allowing for otherwise lawful activities to proceed, while accommodating the needs of the species. It ensures the long-term survival of the species through protection and proactive habitat management and it ensures compliance with the Act, NEPA, and other applicable laws and regulations pursuant to section 10(a)(1)(B) of the Act and its implementing regulations and policies.

Proposed Action

The requested duration of the ITP is 10 years. The plan is a Statewide conservation plan and the ITP would cover the take of the Karner blue butterfly in Wisconsin. A map of the species' high potential range is included on the Service's Web site, referenced below under Reviewing Documents and Submitting Comments. Activities that would continue to be covered under the ITP include a variety of land management activities. These include forestry/timber harvest, right-of-way management (mowing/brushing), pesticide application, recreation management, prescribed burning, snow removal, and others. The proposed action is the renewal of ITP Number TE010064 to authorize take of the Karner blue butterfly within the State of Wisconsin, under section 10(a)(1)(B) of the Act. Incidental take anticipated under this permit application is specific to the Karner blue butterfly in the form of habitat impacts, direct take of butterflies resulting from management and direct take for completing research and monitoring under the HCP. The HCP provides measures to modify activities to minimize and mitigate the effects of the proposed incidental take. The biological goal of the HCP is to provide long-term suitable habitat for the species. The restoration and maintenance of suitable habitat and ecosystem functions necessary to ensure long-term viability of butterfly populations ensures survival and recovery of the species.

Alternatives

Two alternatives were fully evaluated in the environmental assessment prepared for this action, renewal of the ITP and no action/denial of the permit. One additional alternative, issuance of a permit with additional measures specified by the Service, was discussed but eliminated from further consideration. Renewal of the ITP for another 10-year period would allow for continued implementation of the HCP, which has become the normal way of doing business in Wisconsin. Partners and other citizens in Wisconsin have embraced conservation of the species and have altered their activities accordingly. The DNR has been an effective administrator of this permit since 1999 and has coordinated closely with the Service to apply adaptive management principles where needed. Protocols have been developed for additional types of activities and the DNR has worked closely with the implementation and oversight committee, established in the HCP, to effectively monitor compliance with the program, both in terms of statutory compliance and effectiveness in meeting biological goals. For all intents and purposes, forecasting the next 10 years of implementation amounts to at least the status quo and, more likely, increased habitat for the butterfly. Habitat management would continue to be completed in a manner that accommodates the needs of the Karner blue butterfly, and the species would continue to thrive and recover in Wisconsin.

The no action alternative would result in a denial of the request to renew the ITP. In this case, the no action alternative would actually result in a larger change in the landscape and in the implementation of conservation activities for the Karner blue butterfly. If the Statewide permit ceases to exist, multiple landowners (at least 39, who are now partners in the HCP) would be in the position of needing to develop an HCP and apply for a permit from the Service. Each application would undergo processing and review under ESA and NEPA. Where butterflies currently exist, habitat management that incidentally takes butterflies could not proceed. Vegetation succession would follow and the plant community would no longer support the Karner blue butterfly. In addition, the small private landowners who are currently covered by the Statewide HCP would be subject to ESA compliance wherever butterflies exist. There would be a disincentive to managing the habitat to promote persistence of the butterfly, and the assurances they have received under the current conservation program would cease. Landowners who wish to proactively conserve their land to promote recovery of the butterfly in Wisconsin would need their own permits under Section 10, with an HCP or Safe Harbor Agreement for their lands.

Reviewing Documents and Submitting Comments

Please refer to TE010064 when requesting documents or submitting comments. The permit application and supporting documents (updated draft HCP and draft EA) may be obtained on the Internet at the following address: http://www.fws.gov/midwest/endangered/permits/hcp/r3hcps.html. In addition, the original HCP, dated March 2000, may be viewed on the Wisconsin DNR Web site at http://dnr.wi.gov/forestry/karner/. Persons without access to the Internet may obtain copies of the documents (application, updated draft HCP, and draft EA) by contacting the U.S. Fish and Wildlife Service, Ecological Services Field Office, 2661 Scott Tower Drive, New Franken, WI 54229-9565 (920/866-1717, voice; 920/866-1710, fax). The documents will also be available for public inspection, by appointment, during normal business hours (8 a.m. to 4:30 p.m.) at the Ecological Services Field Office in New Franken and at the Service's Regional Office, Ecological Services, Bishop Henry Whipple Federal Building, 1 Federal Drive, 6th Floor, Ft. Snelling, MN 55111 (612/713-5164, voice; 612/713-5292, fax). Written comments will be accepted as described above.

Public Availability of Comments

Written comments we receive become part of the public record associated with this action. Before including your address, phone number, e-mail address, or other personal identifying information in your comment, you should be aware that the entire comment, including your personal identifying information, may be made available at any time. While you can ask us in your comment to withhold your personal identifying information from public review, we cannot guarantee that we will be able to do so.

Authority : We provide this notice under section 10(c) of the Act (16 U.S.C. 1531 et seq.) and its implementing regulations (50 CFR 17.22), and NEPA (42 U.S.C. 4371 et seq.) and its implementing regulations (40 CFR 1506.6).

T.J. Miller,
Acting, Assistant Regional Director, Ecological Services, Region 3, Fort Snelling, Minnesota.

[FR Doc. 2010-4708 Filed 3-4-10; 8:45 am]

BILLING CODE 4310-55-P